DEPARTMENT OF ENERGY

Federal Energy Regulatory Commission

Combined Notice of Filings #1

Take notice that the Commission received the following electric rate filings:

Docket Numbers: ER11-2424-000; ER11-2424-001.

Applicants: Pinetree Power-Tamworth, Inc.

Description: Second Supplemental Request for Acceptance of Market-Based Rate Tariff, Waivers and Blanket Authority of PINETREE POWER-TAMWORTH, INC. under ER11-2424, et al.

Filed Date: 03/09/2011.

Accession Number: 20110309-5136.

Comment Date: 5 p.m. Eastern Time on Wednesday, March 30, 2011.

Docket Numbers: ER11-2695-001.

Applicants: Wisconsin Power and Light Company.

Description: Wisconsin Power and Light Company submits tariff filing per 35.17(b): WPL Changes in Depreciation Rates for Wholesale Production Service Amendment to be effective 3/31/2011.

Filed Date: 03/09/2011.

Accession Number: 20110309-5041.

Comment Date: 5 p.m. Eastern Time on Wednesday, March 30, 2011.

Docket Numbers: ER11-2735-002.

Applicants: Censtar Energy Corp.

Description: Censtar Energy Corp. submits tariff filing per 35: Compliance Filing Under Docket ER11-2735 to be effective 3/28/2011.

Filed Date: 03/09/2011.

Accession Number: 20110309-5069.

Comment Date: 5 p.m. Eastern Time on Wednesday, March 30, 2011.

Docket Numbers: ER11-2798-000.

Applicants: Unidentified Registered Entity.

Description: Supplemental Filing of Midwest Independent Transmission System Operator, Inc.

Filed Date: 03/09/2011.

Accession Number: 20110309-5095.

Comment Date: 5 p.m. Eastern Time on Wednesday, March 30, 2011.

Docket Numbers: ER11-3050-000.

Applicants: FirstEnergy Corp.

Description: FirstEnergy Corp request for waiver of certain affiliate restriction requirements.

Filed Date: 03/09/2011.

Accession Number: 20110309-0200.

Comment Date: 5 p.m. Eastern Time on Wednesday, March 30, 2011.

Docket Numbers: ER11-3051-000.

Applicants: Macho Springs Power I, LLC.

Description: Macho Springs Power I, LLC submits tariff filing per 35.12: Market-Based Rate Application to be effective 5/1/2011.

Filed Date: 03/09/2011.

Accession Number: 20110309-5083.

Comment Date: 5 p.m. Eastern Time on Wednesday, March 30, 2011.

Docket Numbers: ER11-3052-000.

Applicants: Troy Energy, LLC.

Description: Troy Energy, LLC's Transfer of Reactive Power Revenue Requirement.

Filed Date: 03/09/2011.

Accession Number: 20110309-5091.

Comment Date: 5 p.m. Eastern Time on Wednesday, March 30, 2011.

Docket Numbers: ER11-3053-000.

Applicants: Holcim (US) Inc.

Description: Holcim (US) Inc. submits tariff filing per 35.12: Holcim (US) Inc. MBRA Application to be effective 5/9/2011.

Filed Date: 03/09/2011.

Accession Number: 20110309-5114.

Comment Date: 5 p.m. Eastern Time on Wednesday, March 30, 2011.

Docket Numbers: ER11-3054-000.

Applicants: American Electric Power Service Corporation, PJM Interconnection, L.L.C.

Description: American Electric Power Service Corporation submits tariff filing per 35: AEP compliance filing revising Attachment H-14 per Order in Docket No. ER08-1329 to be effective 9/17/2010.

Filed Date: 03/09/2011.

Accession Number: 20110309-5115.

Comment Date: 5 p.m. Eastern Time on Wednesday, March 30, 2011.

Take notice that the Commission received the following open access transmission tariff filings:

Docket Numbers: OA11-6-000.

Applicants: Cedar Point Wind, LLC.

Description: Request for Waiver of Cedar Point Wind, LLC.

Filed Date: 03/09/2011.

Accession Number: 20110309-5137.

Comment Date: 5 p.m. Eastern Time on Wednesday, March 30, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: March 10, 2011.
Nathaniel J. Davis, Sr.,
Deputy Secretary.

[FR Doc. 2011-6432 Filed 3-17-11; 8:45 am]

BILLING CODE 6717-01-P